DEPARTMENT OF ENERGY

Federal Energy Regulatory Commission

[Docket No. CP20-53-000]

National Fuel Gas Supply Corporation; Notice of Schedule for Environmental Review of the Amendment to West Side Expansion and Modernization Project

On February 18, 2020, National Fuel Gas Supply Corporation (National Fuel) filed an application pursuant to section 7(c) of the Natural Gas Act to amend the certificate of public convenience and necessity issued by the Commission on March 2, 2015 in Docket No. CP14-70-000 authorizing the West Side Expansion and Modernization Project (Project). The proposed amendment seeks to remove the “spare” designation from compression at its Mercer Compressor Station in Mercer County, Pennsylvania.

On February 27, 2020, the Federal Energy Regulatory Commission (Commission or FERC) issued its Notice of Application for Amendment. Among other things, that notice alerted agencies issuing federal authorizations of the requirement to complete all necessary reviews and to reach a final decision on a request for a federal authorization within 90 days of the date of issuance of the Commission staff's Environmental Assessment (EA) for the Project amendment. This instant notice identifies the FERC staff's planned schedule for the completion of the EA for the Project amendment.

Schedule for Environmental Review

Issuance of EA—June 19, 2020

90-day Federal Authorization Decision Deadline—September 17, 2020

If a schedule change becomes necessary, additional notice will be provided so that the relevant agencies are kept informed of the Project amendment's progress.

Project Description

In Docket No. CP14-70-000, National Fuel received authorization to designate 1,775 horsepower (HP) of compression out of 7,100 HP at the Mercer Compressor Station as “spare” compression. National Fuel is now seeking in the Project amendment authorization to remove the “spare” designation from the 1,775 HP of compression at its Mercer Compressor Station to accommodate a subscribing shipper's request to direct a portion of its firm transportation capacity to a different primary delivery point.

Background

On March 26, 2020, the Commission issued a Notice of Intent to Prepare an Environmental Assessment for the Proposed Amendment to West Side Expansion and Modernization Project and Request for Comments on Environmental Issues (NOI). In response to the NOI, the Commission received no environmental comments. The Commission did receive comments regarding rates and tariffs.

Additional Information

Additional information about the Project is available from the Commission's Office of External Affairs at (866) 208-FERC or on the FERC website (www.ferc.gov). Using the “eLibrary” link, select “General Search” from the eLibrary menu, enter the selected date range and “Docket Number” excluding the last three digits (i.e., CP20-53), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 22, 2020.
Kimberly D. Bose,
Secretary.

[FR Doc. 2020-11588 Filed 5-28-20; 8:45 am]

BILLING CODE 6717-01-P